DEPARTMENT OF LABOR

Employment and Training Administration

Proposed Collection; Comment Request; Correction

AGENCY: Employment and Training Administration, USDOL.

ACTION: Correction.

SUMMARY: In notice document 03-12248 beginning on Page 26654 in the issue of Friday, May 16, 2003, make the following correction:

On page 26654 in the first column in the fourth paragraph, the contact official was previously listed as Darrin King. This should be changed to read Stephanie Curtis. Ms. Curtis can be reached at (202) 693-3353 or via e-mail at curtis.stephanie@dol.gov.

Dated: May 19, 2003.
Shirley M. Smith,
Administrator.

[FR Doc. 03-12996 Filed 5-22-03; 8:45 am]

BILLING CODE 4510-30-M